DEPARTMENT OF HOUSING AND URBAN DEVELOPMENT

[Docket No. FR-5004-FA-05]

Announcement of Funding Awards for the Emergency Capital Repair Grants Program Fiscal Year 2007

AGENCY: Office of the Assistant Secretary for Housing—Federal Housing Commissioner, HUD.

ACTION: Notice of funding awards.

SUMMARY: In accordance with section 102 (a)(4)(C) of the Department of Housing and Urban Development Reform Act of 1989, this announcement notifies the public of Emergency Capital Repair Grant funding decisions made by the Department in FY 2007. This announcement contains the names of the awardees and the amounts of the awards made available by HUD.

FOR FURTHER INFORMATION CONTACT: Mr. Willie Spearmon, Director, Office of Housing Assistance and Grant Administration, 451 Seventh Street, SW., Washington, DC 20410; telephone (202) 708-3000 (this is not a toll-free number). Hearing- and speech-impaired persons may access this number via TTY by calling the Federal Relay Service toll-free at (800) 877-8339. For general information on this and other HUD programs, visit the HUD Website at http://www.hud.gov.

SUPPLEMENTARY INFORMATION: The Emergency Capital Repair Grants Program is authorized by Section 202(b) of the Housing Act of 1959 (12 U.S.C. 1701q-2). Section 202b was amended to provide grants for “substantial capital repairs to eligible multifamily projects with elderly tenants that are needed to rehabilitate, modernize, or retrofit aging structures, common areas or individual dwelling units.”

On May 22, 2006, at 71 FR 29538, HUD published a notice, entitled “Emergency Capital Repair Grants for Multifamily Housing Projects Designated for Occupancy by the Elderly,” which announced the availability of approximately $30 million in grant funds to make emergency capital repairs to eligible multifamily projects designated for occupancy by elderly tenants. HUD accepted applications on a first-come, first-serve basis and awarded emergency capital repair grants until available amounts were expended. A notice of funding awards announcing Emergency Capital Repair Grant funding decisions made by the Department in Fiscal Year 2006 was published on April 3, 2007, at 72 FR 15896. The amount awarded in FY 2006 was less than the total amount made available in the May 22, 2006, notice, and the Department has continued to make awards on a first-come, first-serve basis in FY 2007. This notice announces the additional funding decisions under the May 22, 2006, notice made by the Department in Fiscal Year 2007.

The Catalog of Federal Domestic Assistance number for this program is 14.315.

The Emergency Capital Repair Grant is designed to provide funds to make emergency capital repairs to eligible multifamily projects owned by private nonprofit entities designated for occupancy by elderly tenants. The capital repair needs must relate to items that present an immediate threat to the health, safety, and quality of life of the tenants. The intent of these grants is to provide one-time assistance for emergency items that could not be absorbed within the project's operating budget and other project resources.

A total of $12,454,999 was awarded to 53 projects and 5,698 units. In accordance with section 102(a)(4)(C) of the Department of Housing and Urban Development Reform Act of 1989 (103 Stat. 1987, 42 U.S.C. 3545), the Department is publishing the grantees and amounts of the awards in Appendix A of this document.

Dated: November 20, 2007.
Brian D. Montgomery,
Assistant Secretary for Housing—Federal Housing Commissioner.

Appendix A.—Emergency Capital Repair Grant Awardees FY 2007
Name of owner/sponsor | Name of development | City | State | Number of units | Dollar amount awarded | Repairs funded
Essex Manor, Inc | Essex Manor | Saginaw | MI | 75 | $187,980 | Replaced the roof and the roof ventilation system, replaced electrical outlets battery operated smoke detectors.
Saginaw Westchester Village, Inc | Saginaw Westchester Village | Saginaw | MI | 156 | 23,964 | Replaced the existing GFCI outlets and smoke alarms.
Saginaw Westchester Village, Inc | Westchester Village North | Saginaw | MI | 101 | 2,333 | Replaced the existing GFCI outlets and smoke alarms.
Tucson Armory Park Foundation, Inc | Armory Park Apartments | Tucson | AZ | 140 | 417,311 | Replaced two unreliable elevators.
The Bernadine Apartments, Inc | The Bernadine Apartments | Syracuse | NY | 216 | 105,800 | Repaired the leaking roof and replaced the failing alarm system.
Marien-Heim of Sunset Park H. D. F. C | Marien-Heim of Sunset Park | Brooklyn | NY | 169 | 145,832 | Replaced the failing exterior building facade.
Encino Terrace | Encino Terrace | Albuquerque | NM | 153 | 499,520 | Repaired to correct the existing smoke partitioning problems.
Exchange Sunshine Home Corporation | Exchange Sunshine Home | Copperas | TX | 50 | 15,908 | Replaced the heating and cooling units.
Overlook Senior Citizens Housing of Marion Co., Inc | Dogwood Terrace II | Sweetwater | TN | 25 | 54,761 | Replaced the roofs on six buildings and repaved the existing driveway and parking areas.
Senior Housing, Inc | Simon C. Fireman Community | Randolph | MA | 160 | 83,564 | Repaired the facility's heating system.
Winter Valley Residences, Inc | Winter Valley Residences | Milton | MA | 128 | 475,000 | Corrected serious water drainage problems.
Metropolitan Detroit Baptist Manor, Inc | Detroit Baptist Manor—Alpha | Farmington Hills | MI | 101 | 62,637 | Replaced the cracked and broken sidewalks and parking lots.
Granada Trades Council Housing, Inc | Granada Homes | San Antonio | TX | 250 | 496,701 | Replaced the front entry roof, back up chiller, pipe insulation, and two elevators.
Methouse Inc | Methouse | Munhall | PA | 113 | 209,337 | Repaired the balconies and window lintels.
Rainbow Place Apartments Limited Partnership | Rainbow Group | Cleveland | OH | 181 | 256,442 | Replaced the roof, heating and ventilation system, standby electrical generator and windows.
United Church Residences of Bedford, OH, Inc | South Haven Woods | Bedford | OH | 60 | 124,416 | Replaced the roof and heating and ventilation (HVAC) system.
Lawrence County Building Trades, Inc | Riverside Apartments | New Castle | PA | 128 | 155,264 | Replaced the fire alarm system, emergency generator and unit doors.
National Council of Senior Citizens | I.W. Abel Place | Pittsburgh | PA | 51 | 113,580 | Replaced the windows.
National Church Residences of Cuyahoga Falls, OH | Portage Trail Village | Cuyahoga Falls | OH | 220 | 155,500 | Replaced the central water heater.
First Baptist Housing of Bridgeport, Inc | Washington Heights Apartments | Bridgeport | CT | 120 | 411,464 | Repaired the building exterior masonry and replaced the elevators.
St. Paul Apartments, Inc | St. Paul Apartments | Macon | GA | 215 | 195,340 | Replaced major plumbing fixtures and the elevator doors.
Flint Heights Senior Citizen Apartments Association | Flint Heights | Flint | MI | 163 | 439,711 | Repaired the building's exterior caulking, replaced roof, and repaired and resurfaced parking and drive.
Westminster Manor Inc | Westminster Manor | San Diego | CA | 156 | 255,258 | Replaced the elevator.
Kivel Manor | Kivel Manor | Phoenix | AZ | 118 | 192,360 | Replaced the elevator.
Kivel Geriatric Center | Kivel Manor East | Phoenix | AZ | 73 | 117,894 | Replaced the elevator.
Kivel Manor West | Kivel Manor West | Phoenix | AZ | 65 | 208,078 | Replaced the elevator.
Cross-Lines Towers Inc | Crossline Towers | Kansas City | KS | 126 | 500,000 | Replaced the existing heating system.
New Horizons Assistance Corporation | New Horizons Group Home | Kansas City | MO | 35 | 38,800 | Repaired the foundation.
Lutheran Retirement Homes, Inc | St. John's Lutheran Retirement Home | Billings | MT | 112 | 500,000 | Replaced the boiler system.
Columbian Tower Development Corp | Columbian Tower | Hoboken | NJ | 135 | 86,990 | Replaced all heating zone valves and flow restrictors.
Union Baptist Community Housing Corp | Herring Manor | Wilmington | DE | 40 | 178,111 | Replaced the roof.
Bethany Villa Housing Association, Inc | Bethany Villa I | Troy | MI | 119 | 239,564 | Replaced the boilers, domestic hot water tanks, concrete sidewalks, resurfaced the parking areas and service drive and repaired the roofs.
Bethany Villa Housing Association, Inc | Bethany Villa II | Troy | MI | 119 | 294,606 | Replaced the boilers, domestic hot water tanks, concrete sidewalks, resurfaced the parking areas and service drive and repaired the roofs.
Housing for Independent Living, Inc | Carver Elderly Housing | Carver | MA | 40 | 500,000 | Replaced the exterior siding, stairs, windows and doors.
Bridgeport Rotary Club Housing Corporation | Laurelwood Place Apartments | Bridgeport | CT | 100 | 315,240 | Replaced two elevators.
Travis Towers, Inc | Travis Towers | Jacksonville | TX | 87 | 262,522 | Replaced the fire alarm system and repaired the elevator.
Loving Tender Care (LTC), Inc | Gillbeke Apartments | Marion | IN | 20 | 157,606 | Replaced leaking roof, siding, and windows.
East Orange Senior Housing Association | Coppergate House | East Orange | NJ | 128 | 420,000 | Replaced the boiler and ventilation system.
Presbyterian Home at Plainfield, Inc | Plainfield Tower West | Plainfield | NJ | 154 | 64,587 | Replaced the existing two elevators.
Barbara L. Andrews Memorial Housing Association | Andrews Way | Raytown | MO | 10 | 6,000 | Replaced failing plumbing system.
Overlook Senior Citizens Housing of Loudon Co., Inc | Dogwood Terrace III | Lenoir City | TN | 20 | 83,461 | Repaired a water line, repaved the driveway, and replaced the air conditioning/heating systems.
Mercy Douglas Human Services Residence Corp | Mercy Douglas Residences | Philadelphia | PA | 61 | 489,752 | Replaced the deteriorating concrete slab and remediated soil conditions beneath the building.
Century Homes for Elderly, Inc | Springbrook Apartments | Vonore | TN | 24 | 21,037 | Replaced deteriorating and leaking roof system.
Beaches Elderly Housing Corporation | Pablo Hamlet | Jacksonville Beach | FL | 104 | 74,226 | Replaced deteriorating and leaking windows.
Schnurman House, Inc | Schnurman House Apartments | Mayfield Heights | OH | 198 | 290,000 | Replaced the roofs.
Saraland Manor Inc | Saraland Manor | Gulfport | MS | 101 | 498,777 | Replaced a fire alarm and emergency call system, replaced the roof condenser units and repaired the elevator doors.
Omni-Governor, Inc | The Governor Apartments | Providence | RI | 57 | 425,327 | Refurbished the existing chimney, replaced roof tiles, and repointed the exterior wall surface.
Jewish Federation Housing, Inc | Federation Towers | Miami Beach | FL | 114 | 402,900 | Replaced two malfunctioning elevator cars.
Labelle Towers | Labelle Towers | Highland Park | MI | 214 | 338,657 | Replaced a 35-year-old chiller.
Villa Del Sol Senior Housing, Inc | Villa Del Sol Senior Housing | Sunland Park | NM | 30 | 55,838 | Repaved buckling pavement, repaired heaving sidewalks, and repaired failing storm drainage systems.
Chaparral Senior Housing, Inc | Chaparral Senior Housing | Las Cruces | NM | 40 | 98,543 | Replaced faulty-inoperable windows, corrected flooding problems and repaired guttering systems on the roof.
Elm Manor Homes, Inc | Elm Manor Homes | Roanoke | VA | 23 | 284,854 | Replaced parts of an unreliable elevator, windows, the parapet cap, damaged vinyl siding, and failed retaining wall.
Redeemer Lutheran Housing, Inc | Luther Acres | Vineland | NJ | 100 | 421,646 | Replaced an inoperable corridor ventilation system.

[FR Doc. E7-24130 Filed 12-12-07; 8:45 am]

BILLING CODE 4210-67-P